DEPARTMENT OF HEALTH AND HUMAN SERVICES

Food and Drug Administration

Cooperative Agreement to Support the Shellfish and Seafood Safety Assistance Project; Announcement Type: Single Source Application; Agency Funding Opportunity Number: RFA-FDA-CFSAN-2006-1

AGENCY: Food and Drug Administration, HHS.

ACTION: Notice.

I. Funding Opportunity Description

The Food and Drug Administration (FDA), Center for Food Safety and Applied Nutrition (CFSAN), Office of Seafood is announcing its intent to award, noncompetitively, a cooperative agreement to the Interstate Shellfish Sanitation Conference (ISSC) in the amount of $320,500 for fiscal year 2006, for direct and indirect costs combined. Subject to the availability of Federal funds and successful performance, 4 additional years of support will be available. FDA will support the research covered by this notice under the authority of section 301 of the Public Health Service Act (the PHS act) (42 U.S.C. 241). FDA's research program is described in the Catalog of Federal Domestic Assistance No. 93.103. Before entering into cooperative agreements, FDA carefully considers the benefits such agreements will provide to the public. This effort will enhance FDA's molluscan shellfish sanitation program and provide the public greater assurance of the quality and safety of these products.

II. Eligibility Information

Competition is limited to ISSC because ISSC is the only organization that has the established formal structure, procedures, and expertise to direct all components (public health, environmental, resource management, and enforcement) of an effective shellfish sanitation program.

ISSC is a partnership of State shellfish control officials representing both environmental and public health agencies; Federal agencies including FDA, the Environmental Protection Agency, and the National Marine Fisheries Service of the Department of Commerce; and representatives from industry, academia, and foreign governments. ISSC will continue to improve information exchange and transfer among States, Federal agencies, industry, and consumers. ISSC will strengthen State activities by providing them with procedural and policy guidance, technical training, research, and consumer education, and ISSC will enhance research efforts and projects which will contribute significantly to the ISSC/FDA ability to identify scientifically defensible controls which reduce the incidence of Vibrio vulnificus and Vibrio parahaemolyticus illness.

III. Application and Submission

For further information or a copy of the complete Request for Application (RFA), contact Gladys M. Bohler, Division of Contracts and Grants Management (HFA-500), Food and Drug Administration, 5600 Fishers Lane, Rockville, MD 20857, 301-827-7168, e-mail: gladys.melendez-bohler@fda.hhs.gov.

This RFA can be viewed on Grants.gov (http://www.grants.gov) under “Find Grant Opportunities.” (FDA has verified the Web site and its address but we are not responsible for subsequent changes to the Web site or its address after this document publishes in the Federal Register.) A copy of the complete RFA can be viewed also on CFSAN's Web site at http://www.cfsan.fda.gov/list.html.

For issues regarding the programmatic and scientific aspects of this notice, contact Paul Distefano, Center for Food Safety and Applied Nutrition (HFS-417), Food and Drug Administration, 5100 Paint Branch Pkwy., College Park, MD 20740, 301-436-1410, e-mail: paul.distefano@fda.hhs.gov.

Dated: September 7, 2006.
Jeffrey Shuren,
Assistant Commissioner for Policy.

[FR Doc. E6-15102 Filed 9-12-06; 8:45 am]

BILLING CODE 4160-01-S